SURFACE TRANSPORTATION BOARD

30-Day Notice of Intent To Seek Extension of Approval of Collection: Waybill Sample

AGENCY: Surface Transportation Board.

ACTION: Notice and request for comments.

SUMMARY: As required by the Paperwork Reduction Act of 1995 (PRA), the Surface Transportation Board (STB or Board) gives notice of its intent to seek approval from the Office of Management and Budget (OMB) for an extension of the collection of Waybill Sample, as described below.

DATES: Comments on this information collection should be submitted by January 19, 2024.

ADDRESSES: Written comments should be identified as “Paperwork Reduction Act Comments, Surface Transportation Board, Waybill Sample.” Written comments for the proposed information collection should be submitted via www.reginfo.gov/public/do/PRAMain. This information collection can be accessed by selecting “Currently under Review—Open for Public Comments” or by using the search function. As an alternative, written comments may be directed to the Office of Management and Budget, Office of Information and Regulatory Affairs, Attention: Michael J. McManus, Surface Transportation Board Desk Officer: via email at oira_submission@omb.eop.gov; by fax at (202) 395-1743; or by mail to Room 10235, 725 17th Street NW, Washington, DC 20503.

Please also direct all comments to Chris Oehrle, PRA Officer, Surface Transportation Board, 395 E Street SW, Washington, DC 20423-0001, and to PRA@stb.gov. When submitting comments, please refer to “Paperwork Reduction Act Comments, Waybill Sample.” For further information regarding this collection, contact Pedro Ramirez at (202) 245-0333 or pedro.ramirez@stb.gov. If you require an accommodation under the Americans with Disabilities Act, please call (202) 245-0245.

SUPPLEMENTARY INFORMATION: The Board previously published a notice about this collection in the Federal Register (88 FR 65421 (Sept. 22, 2023)). That notice allowed for a 60-day public review and comment period. No comments were received.

Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and summarized in the Board's request for OMB approval.

Subjects: In this notice, the Board is requesting comments on the extension of the following information collection:

Description of Collection

Title: Waybill Sample.

OMB Control Number: 2140-0015.

Form Number: None.

Type of Review: Extension without change.

Respondents: Respondents include any railroad that is subject to the Interstate Commerce Act and that terminated at least 4,500 carloads on its line in any of the three preceding years or that terminated at least 5% of the revenue carloads terminating in any state in any of the three preceding years. For the purposes of this analysis, the Board categorizes railroads required to report Waybill Sample data as either quarterly or monthly and as either sampling their own waybills or having a third party conduct their sampling. As a result, there are four categories of respondents, as shown in Table below.

Table—Respondents
Categories of respondents | Number of respondents
Railroads that conduct their own sampling and report monthly | 5
Railroads that conduct their own sampling and report quarterly | 3
Railroads that have a third party sample their waybills and report monthly | 2
Railroads that have a third party sample their waybills and report quarterly | 43
Total Respondents | 53

Number of Respondents: 53.

Estimated Time per Response: The estimated hourly burden for waybill samples submitted to the Board varies depending on each respondent's particular circumstances. (Note: respondents that are identified as reporting monthly (Class I carriers) report monthly, quarterly, and annually (or 17 times per year). All other respondents (non-Class I carriers) report quarterly and annually (five times a year).

Frequency of Response: Six respondents report monthly; and 46 other respondents report quarterly.

Total Burden Hours (annually including all respondents): 420 hours. This estimated total burden hours is shown in the Table below.

Table—Total Burden Hours
Categories of respondents | Total annual hours for samples submitted
Railroads that conduct their own sampling and report monthly | 150
Railroads that conduct their own sampling and report quarterly | 20
Railroads that have a third party sample their waybills and report monthly | 30
Railroads that have a third party sample their waybills and report quarterly | 220
Total Annual Burden Hours | 420

Total Annual “Non-Hour Burden” Cost: There are no other costs identified because filings are submitted electronically to the Board.

Needs and Uses: The Board is, by statute, responsible for the economic regulation of common carrier rail transportation in the United States and collects rail-carload waybills for this purpose. The Board has authority to collect these waybills under 49 U.S.C. 11144, 11145, and the Board often uses the information in rail-carload waybills to carry out its responsibilities.

A rail-carload waybill is a “document or instrument prepared from the bill of lading contract or shipper's instructions as to the disposition of the freight, and [is] used by the railroad(s) involved as the authority to move the shipment and as the basis for determining the freight charges and interline settlements.” 49 CFR 1244.1(c). From these carload waybills, the Board creates an aggregate compilation of the sampled waybills of all reporting carriers, referred to as the Waybill Sample. The Waybill Sample is the Board's principal source of data about freight rail shipments. The information in the Waybill Sample is used by the Board, other federal and state agencies, and industry stakeholders to monitor traffic flows and rate trends in the industry, and to develop testimony in Board proceedings. The Board's collection and use of this data enables it to meet its statutory duty to regulate the rail industry.

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Information from certain schedules contained in these reports is available at the Board's website at www.stb.gov by navigating to “Reports & Data” and clicking on “Economic Data.” Information in these reports is not available from any other source.

Dated: December 15, 2023.
Kenyatta Clay,
Clearance Clerk.

[FR Doc. 2023-27947 Filed 12-19-23; 8:45 am]

BILLING CODE 4915-01-P